DEPARTMENT OF THE INTERIOR

Bureau of Indian Affairs

Final Environmental Impact Statement for the Manzanita Band of Kumeyaay Indians Fee-to-Trust Transfer and Casino Project, Calexico, CA

AGENCY: Bureau of Indian Affairs, Department of the Interior.

ACTION: Notice of availability.

SUMMARY: This notice advises the public that the Bureau of Indian Affairs (BIA) as lead agency, with the Manzanita Band of Kumeyaay Indians (a.k.a. Manzanita Band of Digueno Mission Indians) (Tribe), National Indian Gaming Commission (NIGC), and City of Calexico as cooperating agencies, intends to file a Final Environmental Impact Statement (FEIS) with the Environmental Protection Agency (EPA) for the Tribe's proposed 60.8-acre fee-to-trust transfer and casino project located in the City of Calexico, California, and that the FEIS is now available for public review. Public review of the FEIS is part of the administrative process for the evaluation of Tribal applications seeking to have the United States take land into trust for gaming.

DATES: The Record of Decision (ROD) on the proposed action will be issued no sooner than 30 days after the release of the FEIS. Thus, any comments on the FEIS must arrive by November 7, 2011.

ADDRESSES: You may mail or hand carry written comments to Amy Dutschke, Regional Director, Bureau of Indian Affairs, Pacific Regional Office, 2800 Cottage Way, Sacramento, California 95825. Please see the SUPPLEMENTARY INFORMATION section of this notice for directions on submitting comments and how to obtain a copy of the FEIS. The FEIS will be available to view at the following locations:

Location | Address | Contact number for general information
Holtville Branch—Meyer Memorial Library | 101 E. 6th Street, Holtville, CA 92250 | (760) 356-2385
City of Calexico—Camarena Memorial Library | 850 Encinas Avenue, Calexico, CA 92231 | (760) 768-2170

An electronic version of the FEIS can also be viewed at: http://www.calexico.ca.gov (planning division site).

FOR FURTHER INFORMATION CONTACT: John Rydzik, Bureau of Indian Affairs, Pacific Regional Office, 2800 Cottage Way, Sacramento, California 95825, telephone number: (916) 978-6051.

SUPPLEMENTARY INFORMATION: Public review of the FEIS is part of the administrative process for the evaluation of Tribal applications seeking to have the United States take land into trust for gaming pursuant to 25 U.S.C. 465, 25 CFR 151, 29 CFR 292 and 25 U.S.C. 2719(b)(1)(B). Pursuant to Council on Environmental Quality (CEQ) National Environmental Policy Act (NEPA) regulations (40 CFR 1506.10), the publication of this Notice of Availability (NOA) in the Federal Register initiates a 30-day waiting period for the Federal decision.

Background

The Tribe proposes that 60.8 acres of land be taken into trust; it subsequently plans to develop a casino facility on this land. The subject property is located at the northern most gateway to the City of Calexico, a California/Mexico border city of growing importance in international trade. The project site is situated at the southwest quadrant of State Highway 111 and Jasper Road and is bounded on the south and west by the Central Main and Dogwood Canals. The 60.8-acre parcel is undeveloped former agricultural land and is located within the City of Calexico's 111 Calexico Place project site, a commercial highway development project that was approved by the City of Calexico City Council on May 5, 2010.

The proposed action consists of the fee-to-trust transfer of the project site, Federal review (by NIGC) of the development and management contract, and development of the proposed project. The proposed project includes a 459,621-square foot casino facility on the 60.8-acre parcel. The casino facility would include an approximately 93,880-square foot casino; 63,000 square feet of food/beverage and retail components; 38,660-square foot entertainment venue; and 218,081 square feet of other operational facilities (e.g., back of house area, central plant). In addition, there will be a 46,000-square foot banquet/meeting hall and 200-room hotel. The casino will have 2,000 slot machines and 45 gaming tables. There will be three guest restaurants and one employee dining room. A swimming pool and 6,000-guest space parking facility will also be developed within the project area.

Project alternatives considered in the FEIS include: (1) Alternative A—Proposed Action; (2) Alternative B—Reduced Casino; (3) Alternative C—No Action Alternative. Alternative A—Proposed Action has been selected as the Preferred Alternative, as discussed in the FEIS. The alternatives are intended to assist the review of the issues presented, but the Preferred Alternative does not necessarily reflect what the final decision will be, because a complete evaluation of the criteria listed 25 CFR part 151 may lead to a final decision that selects an alternative other than the Preferred Alternative, including no action, or that selects a variant of the Preferred or another of the alternatives analyzed in the FEIS.

Environmental issues addressed in the FEIS include land resources; water resources; air quality; biological resources; cultural and paleontological resources; socioeconomic conditions; transportation; land use and agriculture; public services; noise; hazardous materials; visual resources; environmental justice; growth inducing effects, indirect effects; cumulative effects; and mitigation measures.

The BIA has afforded other government agencies and the public extensive opportunity to participate in the preparation of this EIS. The BIA published a notice of intent to prepare the EIS for the proposed action in the Federal Register on March 6, 2008 (73 FR 12203). The BIA held a public scoping meeting on March 27, 2008, at the County of Imperial's Board of Supervisors Chamber Room in El Centro, California. An NOA for the Draft EIS (DEIS) was published in the Federal Register on October 8, 2010 (75 FR 62417). The DEIS was available for public comment from October 8, 2010 to December 22, 2010. The BIA held a public hearing on the DEIS on November 10, 2010, in the City of Calexico, California.

Directions for Submitting Comments

Please include your name, return address and the caption, “FEIS Comments, Manzanita Band of Kumeyaay Indians, 60.8-Acre Fee-to-Trust Casino Project, Calexico, California” on the first page of your written comments. Comments, including names and addresses of respondents, will be available for public review at the BIA mailing address shown in the ADDRESSES section of this notice, during regular business hours, 8 a.m. to 4:30 p.m., Monday through Friday, except holidays. Before including your address, telephone number, e-mail address, or other personal identifying information in your comment, you should be aware that your entire comment—including your personal identifying information—may be made publicly available at any time. While you can ask us in your comment to withhold your personal identifying information from public review, we cannot guarantee that we will be able to do so.

Directions To Obtain a Copy of FEIS

To obtain a compact disk copy of the FEIS, please provide your name and address in writing or by voicemail to John Rydzik, Chief of the Division of Environmental, Cultural Resources Management and safety, at the address listed in the FOR FURTHER INFORMATION CONTACT section of this notice. Individual paper copies of the FEIS will be provided upon payment of applicable printing expenses by the requestor for the number of copies requested.

Authority

This notice is published pursuant to Sec. 1503.1 of the Council of Environmental Quality Regulations (40 CFR parts 1500 through 1508) and Sec. 46.305 of the Department of the Interior Regulations (43 CFR part 46), implementing the procedural requirements of the NEPA of 1969, as amended (42 U.S.C. 4371, et seq.), and is in the exercise of authority delegated to the Assistant Secretary—Indian Affairs by 209 DM 8.

Dated: September 22, 2011.
Larry Echo Hawk,
Assistant Secretary—Indian Affairs .

[FR Doc. 2011-25751 Filed 10-6-11; 8:45 am]

BILLING CODE 4310-W7-P